ENVIRONMENTAL PROTECTION AGENCY

40 CFR Part 63

[FRL-6545-3]

Delegation of National Emission Standards for Hazardous Air Pollutants for Source Categories; State of Arizona; Arizona Department of Environmental Quality; Maricopa County Environmental Services Department

AGENCY: Environmental Protection Agency (EPA).

ACTION: Proposed rule.

SUMMARY: Pursuant to section 112(l) of the 1990 Clean Air Act (CAA), the Maricopa County Environmental Services Department (MC) in Arizona requested delegation of specific national emission standards for hazardous air pollutants (NESHAPs). In the Rules section of this Federal Register, EPA is granting MC the authority to implement and enforce specified NESHAPs. The direct final rule also explains the procedure for future delegation of NESHAPs to MC. EPA is taking direct final action without prior proposal because the Agency views this as a noncontroversial action and anticipates no adverse comments. A detailed rationale for this approval is set forth in the direct final rule. If no adverse comments are received, no further activity is contemplated. If EPA receives adverse comments, the direct final rule will be withdrawn and all public comments received will be addressed in a subsequent final rule based on this proposed rule. The EPA will not institute a second comment period. Any parties interested in commenting should do so at this time.

DATES: Written comments must be received by April 3, 2000.

ADDRESSES: Written comments should be addressed to: Andrew Steckel, Rulemaking Office (AIR-4), Air Division, U.S. Environmental Protection Agency, Region IX, 75 Hawthorne Street, San Francisco, CA 94105-3901.

Copies of the submitted requests are available for public inspection at EPA's Region IX office during normal business hours (docket number A-96-25).

FOR FURTHER INFORMATION CONTACT: Mae Wang, Rulemaking Office (AIR-4), Air Division, U.S. Environmental Protection Agency, Region IX, 75 Hawthorne Street, San Francisco, CA 94105-3901; Telephone: (415) 744-1200.

SUPPLEMENTARY INFORMATION: This document concerns delegation of unchanged NESHAPs to the Maricopa County Environmental Services Department and the Arizona Department of Environmental Quality. For further information, please see the information provided in the direct final action which is located in the Rules section of this Federal Register.

Authority: This action is issued under the authority of Section 112 of the Clean Air Act, as amended, 42 U.S.C. 7412.

Dated: February 18, 2000.
David P. Howekamp,
Director, Air Division, Region IX.

[FR Doc. 00-5037 Filed 3-1-00; 8:45 am]

BILLING CODE 6560-50-U